DEPARTMENT OF DEFENSE

Office of the Secretary

[No. DoD-2007-HA-0029]

Proposed Collection; Comment Request

AGENCY: Office of the Assistant Secretary of Defense for Health Affairs, DoD.

ACTION: Notice.

In accordance with Section 3506(c)(2)(A) of the Paperwork Reduction Act of 1995, the Office of the Assistant Secretary of Defense for Health Affairs announces the proposed extension of a public information collection and seeks public comment on the provisions thereof. Comments are invited on: (a) Whether the proposed extension of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received June 11, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection, please write to TRICARE Management Activity, Contract Operations Branch, 16401 E. Centretech Parkway, Attn: Kenneth Zimmerman, Aurora, CO 80011, or call TRICARE Management Activity, Contract Operations Branch, at (303) 676-3502.

Title Associated With Form, and OMB Number: TRICARE Retiree Dental Program Enrollment Form, OM Number 0720-0015.

Needs and Uses: This information collection is completed by Uniformed Services members entitled to retired pay and their eligible family members who are seeking enrollment in the TRICARE Retiree Dental Program (TRDP). The information is necessary to enable the DoD-contracted third party administrator of the program to identify the program's applicants, determine their eligibility for TRDP enrollment, establish the premium payment amount, and to verify by the applicant's signature that the applicant understands the benefits and rules of the program.

Affected Public: Individuals or household.

Annual Burden Hours: 17,833.

Number of Respondents: 71,332.

Responses per Respondent: 1.

Average Burden per Response: 15 minutes.

Frequency: Once, at time of initial application.

SUPPLEMENTARY INFORMATION:

Summary of Information Collection

The TRICARE Retiree Dental Program (32 CFR 199.22) was implemented in 1998 based on the authority of 10 U.S.C. 1076c. Dental coverage under the program is available on a voluntary basis to retirees of the Uniformed Services entitled to retired pay and their family members. The initial Notice of Proposed rule and proposed information collection was published in the Federal Register (62 FR 34032) on June 24, 1997. No comments were received concerning the information collection requirements at that time.

The information collection requirements under this proposed extension are similar to those under the current collection. Information on the applicant, such as name, address, telephone numbers, retiree's social security numbers, is necessary for identification purposes, as is information on the family members to be enrolled. The form contains information on premium payment types of enrollments, and enrollment periods, and a certification statement for the applicant to sign and date. The primary change in the proposed extension of the information collection is the elimination of the requirement for information on the applicant's chosen premium payment methodology if the applicant is not entitled to retired pay (e.g., a surviving spouse). The third party administrator of the program has found it unnecessary to continue the collection of this information on the enrollment form.

Dated: April 2, 2007.
Patricia L. Toppings,
Alternate OSD Federal Register Liaison Officer, Department of Defense.

[FR Doc. 07-1758 Filed 4-9-07; 8:45 am]

BILLING CODE 5001-06-M